ENVIRONMENTAL PROTECTION AGENCY

40 CFR Parts 60 and 63

[EPA-HQ-OAR-2010-0682; FRL-9915-21-OAR]

RIN 2060-AQ75

Petroleum Refinery Sector Risk and Technology Review and New Source Performance Standards

AGENCY: Environmental Protection Agency.

ACTION: Proposed rule; extension of public comment period.

SUMMARY: The Environmental Protection Agency (EPA) is announcing that the period for providing public comments on the June 30, 2014, proposed “Petroleum Refinery Sector Risk and Technology Review and New Source Performance Standards” is being extended by 60 days.

DATES: Comments. The public comment period for the proposed rule published June 30, 2014 (79 FR 36880), is being extended by 60 days to October 28, 2014, in order to provide the public additional time to submit comments and supporting information.

ADDRESSES: Comments. Written comments on the proposed rule may be submitted to the EPA electronically, by mail, by facsimile or through hand delivery/courier. Please refer to the proposal (79 FR 36880) for the addresses and detailed instructions.

Docket. Publicly available documents relevant to this action are available for public inspection either electronically at http://www.regulations.gov or in hard copy at the EPA Docket Center, WJC West Building, Room 3334, 1301 Constitution Ave. NW., Washington, DC. The Public Reading Room is open from 8:30 a.m. to 4:30 p.m., Monday through Friday, excluding legal holidays. A reasonable fee may be charged for copying. The EPA has established the official public docket for this rulemaking under Docket No. EPA-HQ-OAR-2010-0682.

Worldwide Web. The EPA Web site containing information for this rulemaking is: http://www.epa.gov/ttn/atw/petref.html.

FOR FURTHER INFORMATION CONTACT: Ms. Brenda Shine, Sector Policies and Programs Division (E143-01), Office of Air Quality Planning and Standards (OAQPS), U.S. Environmental Protection Agency, Research Triangle Park, North Carolina 27711; telephone number: (919) 541-3608; fax number: (919) 541-0246; and email address: shine.brenda@epa.gov. For specific information regarding the risk modeling methodology, contact Mr. Ted Palma, Health and Environmental Impacts Division (C539-02), Office of Air Quality Planning and Standards (OAQPS), U.S. Environmental Protection Agency, Research Triangle Park, North Carolina 27711; telephone number: (919) 541-5470; fax number: (919) 541-0840; and email address: palma.ted@epa.gov. For information about the applicability of the National Emissions Standards for Hazardous Air Pollutants (NESHAP) or the New Source Performance Standards (NSPS) to a particular entity, contact Maria Malave, Office of Enforcement and Compliance Assurance (OECA), telephone number: (202) 564-7027; fax number: (202) 564-0050; and email address: malave.maria@epa.gov.

SUPPLEMENTARY INFORMATION:

Comment Period

The EPA is extending the public comment period for an additional 60 days. The public comment period will end on October 28, 2014, rather than August 29, 2014. This will ensure that the public has sufficient time to review and comment on all of the information available, including the proposed rule and other materials in the docket.

List of Subjects

40 CFR Part 60

Environmental protection, Administrative practice and procedure, Air pollution control, Incorporation by reference, Intergovernmental relations, Reporting and recordkeeping requirements.

40 CFR Part 63

Environmental protection, Air pollution control, Hazardous substances, Incorporation by reference, Reporting and recordkeeping requirements, Volatile organic compounds.

Dated: August 5, 2014.
Mary E. Henigin,
Acting Director for Office of Air Quality Planning and Standards.

[FR Doc. 2014-19281 Filed 8-14-14; 8:45 am]

BILLING CODE 6560-50-P